DEPARTMENT OF COMMERCE

International Trade Administration

[A-570-184]

Hard Empty Capsules From the People's Republic of China: Final Affirmative Determination of Sales at Less Than Fair Value

AGENCY: Enforcement and Compliance, International Trade Administration, Department of Commerce.

SUMMARY: The U.S. Department of Commerce (Commerce) determines that hard empty capsules (capsules) from the People's Republic of China (China) are being, or are likely to be, sold in the United States at less than fair value (LTFV) for the period of investigation April 1, 2024, through September 30, 2024.

DATES: Applicable December 29, 2025.

FOR FURTHER INFORMATION CONTACT: Rebecca Janz or Jerry Xiao, AD/CVD Operations, Office II, Enforcement and Compliance, International Trade Administration, U.S. Department of Commerce, 1401 Constitution Avenue NW, Washington, DC 20230; telephone: (202) 482-2972 or (202) 482-2273, respectively.

SUPPLEMENTARY INFORMATION:

Background

On May 29, 2025, Commerce published in the Federal Register its preliminary affirmative determination in the LTFV investigation of capsules from China, in which it also postponed the final determination until October 14, 2025.¹ On August 27, 2025, Commerce issued a post-preliminary analysis memorandum in which it made certain changes to its differential pricing analysis.² We invited interested parties to comment on the Preliminary Determination and changes to the differential pricing analysis.³

¹ See Hard Empty Capsules from the People's Republic of China: Preliminary Affirmative Determination of Sales at Less Than Fair Value, Postponement of Final Determination, and Extension of Provisional Measures, 90 FR 22704 (May 29, 2025) (Preliminary Determination), and accompanying Preliminary Decision Memorandum.

² See Memorandum, “Post-Preliminary Analysis for the Affirmative Determination in the Less-Than-Fair-Value Investigation of Hard Empty Capsules from the People's Republic of China,” dated August 27, 2025 (Post-Preliminary Analysis).

³ See Memorandum, “Briefing Schedule,” dated August 28, 2025.

Due to the lapse in appropriations and Federal Government shutdown, on November 14, 2025, Commerce tolled all deadlines in administrative proceedings by 47 days.⁴ Additionally, due to a backlog of documents that were electronically filed via Enforcement and Compliance's Antidumping and Countervailing Duty Centralized Electronic Service System (ACCESS) during the Federal Government shutdown, on November 24, 2025, Commerce tolled all deadlines in administrative proceedings by an additional 21 days.⁵ Accordingly, the deadline for this final determination is now December 18, 2025.

⁴ See Memorandum, “Deadlines Affected by the Shutdown of the Federal Government,” dated November 14, 2025.

⁵ See Memorandum, “Tolling of all Case Deadlines,” dated November 24, 2025.

A summary of the events that occurred since the Preliminary Determination, as well as a full discussion of the issues raised by parties for this final determination, may be found in the Issues and Decision Memorandum.⁶ The Issues and Decision Memorandum is a public document and is on file electronically via ACCESS. ACCESS is available to registered users at https://access.trade.gov. In addition, a complete version of the Issues and Decision Memorandum can be accessed directly at https://access.trade.gov/public/FRNoticesListLayout.aspx.

⁶ See Memorandum, “Issues and Decision Memorandum for the Final Affirmative Determination of Sales at Less Than Fair Value in the Investigation of Hard Empty Capsules from the People's Republic of China,” dated concurrently with, and hereby adopted by, this notice (Issues and Decision Memorandum).

Scope of the Investigation

The products covered by this investigation are capsules from China. For a complete description of the scope of this investigation, see Appendix I.

Scope Comments

In the Preliminary Scope Memorandum, we set aside a period of time for parties to raise issues regarding product coverage (i.e., scope) in scope-specific case briefs or other written comments.⁷ We received scope case and rebuttal briefs from multiple interested parties. For a summary of the product coverage comments and rebuttal response submitted to the record for this final determination, and accompanying discussion and analysis of all comments timely received, see the Final Scope Memorandum.⁸ In the Final Scope Memorandum, Commerce determined that it is modifying the scope language as it appeared in the Initiation Notice.⁹ See Appendix I.

⁷ See Memorandum, “Less-Than-Fair-Value and Countervailing Duty Investigations of Hard Empty Capsules from Brazil, the People's Republic of China, India, and the Socialist Republic of Vietnam: Scope Comments Decision Memorandum for the Preliminary Determination,” dated March 24, 2025 (Preliminary Scope Memorandum).

⁸ See Memorandum, “Less-Than-Fair-Value and Countervailing Duty Investigations of Hard Empty Capsules from Brazil, the People's Republic of China, India, and the Socialist Republic of Vietnam: Final Scope Decision Memorandum,” dated concurrently with this notice (Final Scope Memorandum).

⁹ See Hard Empty Capsules from Brazil, the People's Republic of China, India, and the Socialist Republic of Vietnam: Initiation of Countervailing Duty Investigations, 89 FR 91680 (November 20, 2024) (Initiation Notice).

Verification

Commerce conducted verification of the information relied upon in making its final determination in this investigation, in accordance with section 782(i) of the Tariff Act of 1930, as amended (the Act). Specifically, we conducted on-site verifications of the sales and cost information submitted by Shandong Healsee Capsule Ltd. (Shandong Healsee) and Shanxi JC Biological Technology Co., Ltd. (Shanxi JC) for use in our final determination. We used standard verification procedures, including an examination of relevant sales and accounting records, and original source documents provided by Shandong Healsee and Shanxi JC.

Analysis of Comments Received

All issues raised in the case and rebuttal briefs submitted by interested parties in this investigation are addressed in the Issues and Decision Memorandum. A list of the issues addressed in the Issues and Decision Memorandum is attached to this notice as Appendix II.

Changes Since the Preliminary Determination

We made certain changes to the margin calculations for Shandong Healsee and Shanxi JC since the Preliminary Determination and Post-Preliminary Analysis. For a discussion of these changes, see the Issues and Decision Memorandum.

Separate Rate Companies and the China-Wide Entity

We preliminarily granted a separate rate to certain respondents that we did not select for individual examination.¹⁰ Additionally, because we preliminarily did not find that the China-wide entity failed to cooperate in this investigation, we preliminarily assigned this same rate as the estimate weighted-average dumping margin for the China-wide entity.¹¹ No party commented on our preliminary separate rate determinations or our findings with respect to the China-wide entity. Therefore, we continue to find that Shandong Healsee, Shanxi JC, and certain non-individually examined companies that are listed in the “Final Determination” rate table below, are eligible for a separate rate. We also continue to assign the same rate assigned to the non-individually examined companies to the China-wide entity.

¹⁰ See Preliminary Determination, 90 FR at 22705.

¹¹ Id.

Combination Rates

Consistent with the Preliminary Determination and Policy Bulletin 05.1,¹² Commerce calculated combination rates for the companies eligible for a separate rate.

¹² See Enforcement and Compliance's Policy Bulletin No. 05.1, regarding, “Separate-Rates Practice and Application of Combination Rates in Antidumping Investigations involving Non-Market Economy Countries,” dated April 5, 2005 (Policy Bulletin 05.1), available on Commerce's website at http://enforcement.trade.gov/policy/bull05-1.pdf.

Final Determination

Commerce determines that the following estimated weighted-average dumping margins exist:

¹³ To determine the cash deposit rate, Commerce normally adjusts the estimated weighted-average dumping margin by the amount of export subsidies countervailed in a companion countervailing duty (CVD) proceeding, when CVD provisional measures are in effect. Accordingly, where Commerce has made a final affirmative determination for countervailable export subsidies, Commerce offsets the estimated weighted-average dumping margin by the appropriate CVD rate. However, in the final determination of the companion CVD investigation of capsules from China, we found no export subsidies. See the unpublished Federal Register notice entitled “Hard Empty Capsules from the People's Republic of China: Final Affirmative Countervailing Duty Determination,” signed and dated concurrently with this Federal Register notice. Therefore, Commerce has not adjusted the cash deposit rate for export subsidies in the companion CVD investigation.

¹⁴ Hubei Kornnac Pharmaceutical Co., Ltd. (Hubei Kornnac) initially filed a separate rate application under the name “Hubei Humanwell Pharmaceutical Excipients Co., Ltd.” and subsequently notified Commerce that the company's name changed to Hubei Kornnac. We preliminarily determined it was appropriate to allow the name change. See Preliminary Determination, 90 FR at 22705 n.13. No party commented on this determination; thus, we continue to find it is appropriate to allow the name change and grant Hubei Kornnac a separate rate.

¹⁵ In the Preliminary Determination, we listed the name of this company as “Shanxi Guangsheng Medicinal Capsule Co., Ltd. A.K.A. Shanxi Guangsheng Capsule Co., Ltd.” See Preliminary Determination, 90 FR at 22706. However, for customs purposes, the appropriate marker between a company's name and an “also known as” name is a semicolon; thus, we are correcting the format of the company's names for our final determination.

Producer | Exporter | Weighted-average dumping margin (percent) | Cash deposit rate (percent) ¹³
Shandong Healsee Capsule Ltd | Shandong Healsee Capsule Ltd | 18.71 | 18.71
Shanxi JC Biological Technology Co., Ltd | Shanxi JC Biological Technology Co., Ltd | 0.00 | 0.00
Guizhou Guang De Li Pharmaceuticals Co., Ltd | Guizhou Guang De Li Pharmaceuticals Co., Ltd | 18.71 | 18.71
Hebei Kangxin Plant Capsule Co., Ltd | Hebei Kangxin Plant Capsule Co., Ltd | 18.71 | 18.71
Hubei Kornnac Pharmaceutical Co., Ltd ¹⁴ | Hubei Kornnac Pharmaceutical Co., Ltd | 18.71 | 18.71
Jiangsu Lefan Capsule Co., Ltd | Jiangsu Lefan Capsule Co., Ltd | 18.71 | 18.71
Jiujiang Angtai Capsule Co., Ltd | Jiujiang Angtai Capsule Co., Ltd | 18.71 | 18.71
Qingdao Yiqing Biotechnology Co., Ltd | Qingdao Yiqing Biotechnology Co., Ltd | 18.71 | 18.71
Shaanxi Genex Bio-Tech Co., Ltd | Shaanxi Genex Bio-Tech Co., Ltd | 18.71 | 18.71
Shanghai Guang De Li Capsule Co., Ltd | Shanghai Guang De Li Capsule Co., Ltd | 18.71 | 18.71
Shanxi Guangsheng Medicinal Capsule Co., Ltd.; Shanxi Guangsheng Capsule Co., Ltd | Shanxi Guangsheng Medicinal Capsule Co., Ltd.; Shanxi Guangsheng Capsule Co., Ltd ¹⁵ | 18.71 | 18.71
Shaoxing Kangke Capsule Co., Ltd | Shaoxing Kangke Capsule Co., Ltd | 18.71 | 18.71
Shaoxing Renhe Capsule Co., Ltd | Shaoxing Renhe Capsule Co., Ltd | 18.71 | 18.71
Xinchang County Hexin Capsule Co., Ltd | Xinchang County Hexin Capsule Co., Ltd | 18.71 | 18.71
Xinchang County No.6 Capsule Factory | Xinchang Paulo Import And Export Co., Ltd | 18.71 | 18.71
Shaoxing Kangke Capsule Co., Ltd | Xinchang Paulo Import And Export Co., Ltd | 18.71 | 18.71
Zhejiang Huaguang Capsule Co., Ltd | Xinchang Paulo Import And Export Co., Ltd | 18.71 | 18.71
Shanxi Guangsheng Capsule Co., Ltd | Xinchang Paulo Import And Export Co., Ltd | 18.71 | 18.71
Zhejiang Pujiang Enerkang Capsule Co., Ltd | Xinchang Paulo Import And Export Co., Ltd | 18.71 | 18.71
Yantai Oriental Pharmacap Co., Ltd | Yantai Oriental Pharmacap Co., Ltd | 18.71 | 18.71
Ningbo Capsulcn Capsule Co., Ltd | Zhejiang Capsulcn Machinery Co., Ltd | 18.71 | 18.71
Shaoxing Zhongya Capsules Industry Co., Ltd | Zhejiang Capsulcn Machinery Co., Ltd | 18.71 | 18.71
Shandong Healsee Capsule Ltd | Zhejiang Capsulcn Machinery Co., Ltd | 18.71 | 18.71
Zhejiang Guangjuyuan Biotechnology Co., Ltd | Zhejiang Capsulcn Machinery Co., Ltd | 18.71 | 18.71
Zhejiang Huaguang Capsule Co., Ltd | Zhejiang Capsulcn Machinery Co., Ltd | 18.71 | 18.71
Zhejiang Huaguang Capsule Co., Ltd | Zhejiang Huaguang Capsule Co., Ltd | 18.71 | 18.71
Zhejiang Huili Capsules Co., Ltd | Zhejiang Huili Capsules Co., Ltd | 18.71 | 18.71
Zhejiang Lujian Capsule Co., Ltd | Zhejiang Lujian Capsule Co., Ltd | 18.71 | 18.71
China-Wide Entity |  | 18.71 | 18.71

Disclosure

Commerce intends to disclose the calculations performed in connection with this final determination to interested parties within five days of any public announcement or, if there is no public announcement, within five days of the date of publication of this notice in the Federal Register, in accordance with 19 CFR 351.224(b).

Suspension of Liquidation

In accordance with section 733(d)(2) of the Act, we instructed U.S. Customs and Border Protection (CBP) to suspend liquidation of subject merchandise entries, as described in Appendix I of this notice, that were entered, or withdrawn from warehouse, for consumption on or after May 29, 2025, the date of publication of the Preliminary Determination in the Federal Register. In accordance with section 733(d) of the Act, we subsequently instructed CBP to discontinue the suspension of liquidation of all entries of subject merchandise entered or withdrawn from warehouse, on or after November 25, 2025, but to continue the suspension of liquidation of all entries of subject merchandise on or before November 24, 2025.

Because the estimated weighted-average dumping margin is zero for the Shanxi JC producer/exporter combination, we will discontinue the suspension of liquidation and refund all cash deposits already collected for this producer/exporter combination, pursuant to section 735(c)(2) of the Act, and we will exclude merchandise exported and produced by Shanxi JC from the antidumping duty order, in the event an order is instituted, in accordance with section 735(a)(4) of the Act and 19 CFR 351.204(e)(1). However, entries of shipments of subject merchandise from Shanxi JC in any other exporter/producer combination, or by third parties that sourced subject merchandise from the excluded producer/exporter combination, will be subject to suspension of liquidation at the China-wide entity rate.

Other than for entries produced and exported by Shanxi JC, if the U.S. International Trade Commission (ITC) issues a final affirmative injury determination, we will issue an antidumping duty order, reinstate the suspension of liquidation, and require a cash deposit for estimated weighted-average antidumping duties, in accordance with section 736(a) of the Act, as follows: (1) the cash deposit rate for the exporter/producer combinations listed in the table above will be the rate identified in the table; (2) for all combinations of Chinese exporters/producers of subject merchandise that have not received their own separate rate above, the cash deposit rate will be the cash deposit rate established for the China-wide entity; and (3) for all non-Chinese exporters of subject merchandise that have not received their own separate rate above, the cash deposit rate will be the cash deposit rate applicable to the Chinese exporter/producer combination that supplied that non-Chinese exporter.

If the ITC determines that material injury, or threat of material injury, does not exist, this proceeding will be terminated, and all estimated duties deposited or securities posted as a result of the suspension of liquidation will be refunded or canceled.

ITC Notification

In accordance with section 735(d) of the Act, Commerce will notify the ITC of its final affirmative determination of sales at LTFV. Because Commerce's final determination is affirmative, in accordance with section 735(b)(2) of the Act, the ITC will make its final determination as to whether the domestic industry in the United States is materially injured, or threatened with material injury, by reason of imports, or sales (or the likelihood of sales) for importation, of capsules no later than 45 days after this final determination. If the ITC determines that material injury or threat of material injury does not exist, this proceeding will be terminated, all cash deposits will be refunded or canceled, and suspension of liquidation will be lifted. If the ITC determines that such injury does exist, Commerce will issue an antidumping duty order directing CBP to assess, upon further instructions by Commerce, antidumping duties on all imports of the subject merchandise that are entered, or withdrawn from warehouse, for consumption on or after the effective date of the suspension of liquidation, as discussed above in the “Suspension of Liquidation” section above.

Administrative Protective Order (APO)

This notice serves as the only reminder to parties subject to an APO of their responsibility concerning the disposition of proprietary information disclosed under APO in accordance with 19 CFR 351.305(a)(3). Timely written notification of the return or destruction of APO materials or conversion to judicial protective order is hereby requested. Failure to comply with the regulations and terms of an APO is a sanctionable violation.

Notification to Interested Parties

This final determination is issued and published in accordance with sections 735(d) and 777(i) of the Act, and 19 CFR 351.210(c).

Dated: December 18, 2025.
Christopher Abbott,
Deputy Assistant Secretary for Policy and Negotiations, performing the non-exclusive functions and duties of the Assistant Secretary for Enforcement and Compliance.

Appendix I

Scope of the Investigation

The merchandise subject to the scope of the investigation is hard empty capsules, which are comprised of two prefabricated, hollowed cylindrical sections (cap and body). The cap and body pieces each have one closed and rounded end and one open end, and are constructed with different or equal diameters at their open ends.

Hard empty capsules are unfilled cylindrical shells composed of at least 80 percent by weight of a water soluble polymer that is considered non-toxic and appropriate for human or animal consumption by the United States Pharmacopeia—National Formulary (USP-NF), Food Chemical Codex (FCC), or equivalent standards. The most common polymer materials in hard empty capsules are gelatin derived from animal collagen (including, but not limited to, pig, cow, or fish collagen), hydroxypropyl methylcellulose (HPMC), and pullulan.

Hard empty capsules may also contain water and additives, such as opacifiers, colorants, processing aids, controlled release agents, plasticizers, and preservatives. Hard empty capsules may also be imprinted or otherwise decorated with markings.

Hard empty capsules are covered by the scope of the investigation regardless of polymer material, additives, transparency, opacity, color, imprinting, or other markings.

Hard empty capsules are also covered by the scope of the investigation regardless of their size, weight, length, diameter, thickness, and filling capacity.

Cap and body pieces of hard empty capsules are covered by the scope of the investigation regardless of whether they are imported together or separately, and regardless of whether they are imported in attached or detached form.

Hard empty capsules covered by the scope of the investigation are those that disintegrate in water, simulated intestinal fluid, simulated gastric fluid, or other similar water-based (i.e., aqueous) fluids within 2 hours under tests specified in Chapter 701 of the USP-NF, or equivalent disintegration tests.

Hard empty capsules are classifiable under subheadings 9602.00.1040 and 9602.00.5010 of the Harmonized Tariff Schedule of the United States (HTSUS). In addition, hard empty capsules may be imported under HTSUS subheading 1905.90.9090; gelatin hard empty capsules may be imported under HTSUS subheading 3503.00.5510; HPMC hard empty capsules may be imported under HTSUS subheading 3923.90.0080; and pullulan hard empty capsules may be imported under HTSUS subheading 2106.90.9998. Although the HTSUS subheadings are provided for convenience and customs purposes, the written description of the merchandise covered by the investigation is dispositive.

Appendix II

List of Topics Discussed in the Issues and Decision Memorandum

I. Summary

II. Background

III. Changes Since the Preliminary Determination

IV. Application of Facts Available (AFA) and Use of Adverse Inference

V. Discussion of the Issues

Comment 1: Application of AFA to Shandong Healsee's U.S. Expenses

Comment 2: Whether to Collapse Shandong Healsee with Its Affiliated Input Suppliers

Comment 3: Application of AFA to Shanxi JC

Comment 4: Whether to Include Freight Expenses in the Calculation of Shanxi JC's By-Product Input Costs

Comment 5: The Appropriate Short-Term Interest Rate for the Calculation of Shanxi JC's Credit Expenses and Inventory Carrying Costs

Comment 6: Whether the Turkish Starch Surrogate Value is Aberrational

Comment 7: Selection of the Primary Surrogate Country

Comment 8: Selection of Surrogate Financial Statements

Comment 9: Differential Pricing Test

VI. Recommendation

[FR Doc. 2025-23824 Filed 12-23-25; 8:45 am]

BILLING CODE 3510-DS-P